DEPARTMENT OF LABOR

Office of the Secretary

Submission for OMB Review; Comment Request

August 10, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159, or by E-mail to Kurz-Karin@dol.gov). To obtain documentation for ESA, MSHA, OSHA, VETS contact Darrin King ((202) 219-5096, ext. 151, or by E-Mail to King-Darrin@dol.gov).

Comments should be sent to Office of information and Regulatory Affairs, Attn: OMB Desk Officer for BLS, DM, ESA, ETA, MSNA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Mine Safety and Health Administration (MSHA).

Title: Fire Protection for Underground Coal Mines.

OMB Number: 1219-0054.

Affected Public: Business or other for-profit.

Frequency: On Occasion; Annually; Semi-annually; Quarterly; and Weekly.

Number of Respondents: 1,275.

Number of Annual Responses: 398,339.

Estimated Time Per Response: Varies from 2 minutes to examine a fire extinguisher to approximately 30 minutes to prepare a fire protection program.

Total Burden Hours: 89,263.

Total Annualized Capital/Startup Costs: $1,695.

Total Annual Costs (operating/maintaining systems or purchasing services): $0.

Description: Requires underground coal mine operators to adopt an MSHA approved program for the instruction of miners in fire fighting and evacuation procedures. In addition fire extinguishers are to be examined every 6 months; fire drills conducted every 90 days; automatic fire sensor and warning device systems are to be examined weekly and tested annually; and fire hydrants and hose are to be tested at least once a year. These provisions also require that the mine operator maintain a record or certification that the fire drills and examinations and tests were conducted.

Type of Review: Extension of a currently approved collection.

Agency: Mine Safety and Health Administration (MSHA).

Title: Petitions for Modification, Pertains to All Mines.

OMB Number: 1219-0065.

Affected Public: Business or other for-profit.

Frequency: On Occasion.

Number of Respondents: 174.

Number of Annual Responses: 174.

Estimated Time Per Response: 40 hours.

Total Burden Hours: 5,400.

Total Annualized Capital/Startup Costs: $0.

Total Annual Costs (operating/maintaining systems or purchasing services): $78,522.

Description: Provides procedures for petitions for modification by which a mine operator, representative of miners, or independent contractor may request relief from mandatory safety standards.

Ira L. Mills,
Departmental Clearance Officer.

[FR Doc. 00-20766 Filed 8-15-00; 8:45 am]

BILLING CODE 4510-43-M